EXPORT-IMPORT BANK

[Public Notice: EIB-2021-0006]

Application for Final Commitment for a Long-Term Loan or Financial Guarantee in Excess of $100 Million: AP700317XX

AGENCY: Export-Import Bank.

ACTION: Notice.

SUMMARY: This Notice is to inform the public the Export-Import Bank of the United States (“EXIM”) has received an application for final commitment for long-term loans or financial guarantees in excess of $100 million. Comments received within the comment period specified below will be presented to the EXIM Board of Directors prior to final action on these Transactions.

DATES: Comments must be received on or before October 19, 2021 to be assured of consideration before final consideration of the transactions by the Board of Directors of EXIM.

ADDRESSES: Comments may be submitted through Regulations.gov at www.regulations.gov. To submit a comment, enter EIB-2020-0006 under the heading “Enter Keyword or ID” and select Search. Follow the instructions provided at the Submit a Comment screen. Please include your name, company name (if any) and EIB-2020-0006 on any attached document.

SUPPLEMENTARY INFORMATION: Reference: AP700317XX.

Purpose and use:

Brief description of the purpose of the transactions: Rural Electrification within Senegal.

Brief non-proprietary description of the anticipated use of the items being exported: Expansion of national electric grid and electrification of off-grid rural villages.

Parties:

Principal Supplier: Weldy Lamont Associates.

Obligor: Republic of Senegal acting by and through the Senegal National Electricity Agency.

Guarantor: Republic of Senegal acting by and through the Ministry of the Economy, Planning and Cooperation.

Description of items being exported: Utility Poles, Transformers, Cabling, Utility Grade Batteries.

Information on decision: Information on the final decision for these transactions will be available in the “Summary Minutes of Meetings of Board of Directors” on http://exim.gov/newsandevents/boardmeetings/board/.

Confidential information: Please note that this notice does not include confidential or proprietary business information; information which, if disclosed, would violate the Trade Secrets Act; or information which would jeopardize jobs in the United States by supplying information that competitors could use to compete with companies in the United States.

Authority: Section 3(c)(10) of the Export-Import Bank Act of 1945, as amended (12 U.S.C. 635a(c)(10)).

Joyce B. Stone,
Assistant Corporate Secretary.

[FR Doc. 2021-20778 Filed 9-23-21; 8:45 am]

BILLING CODE 6690-01-P